DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before November 7, 2016. Address written comments to Statutory Import Programs Staff, Room 3720, U.S. Department of Commerce, Washington, DC 20230. Applications may be examined between 8:30 a.m. and 5:00 p.m. at the U.S. Department of Commerce in Room 3720.

Docket Number: 15-061. Applicant: Yale School of Medicine, 333 Cedar St., New Haven, CT 06510. Instrument: SuperK Extreme EXR-20 white light laser. Manufacturer: NKT Photonics, Denmark. Intended Use: The instrument will be used as an excitation sources for the study of intracellular processes and structures at super resolution. The experiments require a high power pulsed excitation source at a wavelength of 590 nm, and minimal after pulse tail and sub 100 ps pulse width. Justification for Duty-Free Entry: There are no instruments of the same general category manufactured in the United States. Application accepted by Commissioner of Customs: July 18, 2016.

Docket Number: 16-002. Applicant: University of Massachusetts Medical School, 55 Lake Avenue North, Worcester, MA 01655. Instrument: Electron Microscope. Manufacturer: FEI Company, the Netherlands. Intended Use: The instrument will be used to understand the three-dimensional structure of purified proteins and protein complexes at the atomic level, and how this is related to their function. Justification for Duty-Free Entry: There are no instruments of the same general category manufactured in the United States. Application accepted by Commissioner of Customs: July 18, 2016.

Docket Number: 16-004. Applicant: Purdue University, 315 N. Grant St., West Lafayette, IN 47907. Instrument: SGR YAG pulsed laser. Manufacturer: Beamtech Optronics, Co. LTD, China. Intended Use: The instrument will be used for pulsed laser annealing and nanostructure integrated laser shock peening, to improve the microstructure of thin film for better electrical and optical properties. Requirements for the experiment include three wave lengths (355nm, 532nm, 1064nm), pulse energy 2J, flat hat beam, and pulse duration tunable from 10ns to 25ns. Justification for Duty-Free Entry: There are no instruments of the same general category manufactured in the United States. Application accepted by Commissioner of Customs: July 18, 2016.

Docket Number: 16-005. Applicant: Rutgers University, Administrative Services Bldg. I, Rm. 300, Plant Funds, 65 Davidson Road, Piscataway, NJ 08854-8076. Instrument: Electron Microscope. Manufacturer: FEI Company, the Netherlands. Intended Use: The instrument will be used to achieve sub-nanometer resolution structures of protein complexes, characterize interactions between various components of protein complexes and understand biological activities by imaging protein assemblies in cellular or physiologic conditions. Justification for Duty-Free Entry: There are no instruments of the same general category manufactured in the United States. Application accepted by Commissioner of Customs: July 14, 2016.

Docket Number: 16-008. Applicant: California Institute of Technology, 1200 E. California Blvd., Pasadena, CA 91125. Instrument: Cryogenic Temperature Scanning Tunneling Microscope System. Manufacturer: Unisoku Co., LTd., Japan. Intended Use: The instrument will be used to investigate structural and electrical surface properties with atomic resolution at cryogenic temperatures (-459 Fahrenheit—0.4 K) and high magnetic fields, at which conditions materials can exhibit unusual quantum properties such as topological superconductivity and fractionalization of charge carriers. Experiments to be conducted with the instrument include mapping of the local electronic density of states of gated nanostructures by measuring current—voltage curves at different points, mapping of the electron spin structure using scanning tips made of magnetic materials, and probing the size of the energy gap in topological insulators and topological superconductors. For this type of research an instrument capable of performing scanning tunneling microscopy (STM) and atomic force microscopy (AFM) at cryogenic temperatures and high magnetic fields is essential. Justification for Duty-Free Entry: There are no instruments of the same general category manufactured in the United States. Application accepted by Commissioner of Customs: July 14, 2016.

Docket Number: 16-010. Applicant: University of California, Riverside, 900 University Drive, Riverside, CA 92521. Instrument: Electron Microscope. Manufacturer: FEI Company, the Netherlands. Intended Use: The instrument will be used teaching and associated research, including materials science, earth science and life science, all of which rely on the characterization of morphology and structure at microscopic down to atomic scale of materials and biological tissues. Justification for Duty-Free Entry: There are no instruments of the same general category manufactured in the United States. Application accepted by Commissioner of Customs: July 18, 2016.

Docket Number: 16-011. Applicant: Van Andel Research Institute, 333 Botswick Avenue NE., Grand Rapids, MI 49503. Instrument: Electron Microscope. Manufacturer: FEI Company, the Netherlands. Intended Use: The instrument will be used to computationally process images of protein complexes and apply averaging techniques to 3D models of isolated cellular components. Justification for Duty-Free Entry: There are no instruments of the same general category manufactured in the United States. Application accepted by Commissioner of Customs: June 21, 2016.

Docket Number: 16-012. Applicant: Van Andel Research Institute, 333 Botswick Avenue NE., Grand Rapids, MI 49503. Instrument: Electron Microscope. Manufacturer: FEI, Co., the Netherlands. Intended Use: The instrument will be used to computationally process images of protein complexes and apply averaging techniques to 3D models of isolated cellular components. Justification for Duty-Free Entry: There are no instruments of the same general category manufactured in the United States. Application accepted by Commissioner of Customs: June 16, 2016.

Docket Number: 16-013. Applicant: Van Andel Research Institute, 333 Botswick Avenue NE., Grand Rapids, MI 49503. Instrument: Electron Microscope. Manufacturer: FEI Company, Czech Republic. Intended Use: The instrument will be used to computationally process images of protein complexes and apply averaging techniques to calculate 3D models of isolated cellular components. Justification for Duty-Free Entry: There are no instruments of the same general category manufactured in the United States. Application accepted by Commissioner of Customs: July 15, 2016.

Docket Number: 16-014. Applicant: Iowa State University, 3616 Administrative Services Bldg., Stange Road, Ames, Iowa 50011-3616. Instrument: Electron Microscope. Manufacturer: FEI Company, the Netherlands. Intended Use: The instrument will be used to study atom arrangement/motion in defects, interface, precipitate and their effect on property using high-resolution (scanning) electron microscopy, nanospectroscopy, electron diffraction, electron holography and Lorentz microscopy. Justification for Duty-Free Entry: There are no instruments of the same general category manufactured in the United States. Application accepted by Commissioner of Customs: July 14, 2016.

Docket Number: 16-015. Applicant: Yale University, 2 Whitney Avenue, Suite 540, P.O. Box 208202, New Haven, CT 06520. Instrument: Electron Microscope. Manufacturer: FEI Company, the Netherlands. Intended Use: The instrument will be used to obtain atomic-resolution maps of macromolecular complexes, to obtain three-dimensional tomograms of cellular contents, and to observe the arrangements of organelles and macromolecular complexes that participate in cellular processes. Justification for Duty-Free Entry: There are no instruments of the same general category manufactured in the United States. Application accepted by Commissioner of Customs: July 18, 2016.

Docket Number: 16-016. Applicant: State University of New York at Stony Brook, Research & Development Campus, Development Drive, Bldg. 17, Stony Brook, NY 117964-6000. Instrument: Cryo-Electron Microscope. Manufacturer: FEI Company, the Netherlands. Intended Use: The instrument will be used to image and visualize purified proteins, nucleic acid-protein complexes, and thin sections of biological materials such as cells or tissues by cryo-electron microscopy. Justification for Duty-Free Entry: There are no instruments of the same general category manufactured in the United States. Application accepted by Commissioner of Customs: August 24, 2016.

Dated: October 11, 2016.
Gregory W. Campbell,
Director of Subsidies Enforcement, Enforcement and Compliance.

[FR Doc. 2016-25173 Filed 10-17-16; 8:45 am]

BILLING CODE 3510-DS-P